DEPARTMENT OF THE INTERIOR

Geological Survey

[GX19EG00COM0001; OMB Control Number 1028-New]

Agency Information Collection Activities; Markup Application

AGENCY: U.S. Geological Survey (USGS), Interior.

ACTION: Notice of information collection; request for comment.

SUMMARY: In accordance with the Paperwork Reduction Act of 1995, we, the U.S. Geological Survey (USGS) are proposing a new information collection.

DATES: Interested persons are invited to submit comments on or before August 30, 2019.

ADDRESSES: Send your comments on this information collection request (ICR) by mail to U.S. Geological Survey, Information Collections Officer, 12201 Sunrise Valley Drive MS 159, Reston, VA 20192; or by email to gs-info_collections@usgs.gov. Please reference OMB Control Number 1028-new in the subject line of your comments.

FOR FURTHER INFORMATION CONTACT: To request additional information about this ICR, contact Tatyana DiMascio by email at tdimascio@usgs.gov, or by telephone at (303) 202-4206.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be are that your entire comment—including your personal identifying information—may be made publicly available at any time. While you may ask us in your comment to withhold your personal identifying information from public review, we cannot guarantee that we will be able to do so.

Abstract

Markup Application is the name of the USGS National Geospatial Technical Operations Center project that allows citizen participation in volunteer map data collection activities for hydrography datasets.

The USGS manages the National Hydrography Dataset (NHD), Watershed Boundary Dataset (WBD), and National Hydrography Dataset Plus High Resolution (NHDPlus HR). All three hydrography datasets include user-driven data provided by state stewards or USGS trained editors. The USGS also provides an editing tool, offers technical support, and distributes authoritative hydrography data to the public as part of The National Map.

Markup Application allows citizens to submit proposed changes and corrections, called “markups,” to NHD, WBD, or NHDPlus HR by drawing newly proposed features on the map or by filling out a form that explains a suggested change for a selected feature. All submitted markups, along with the user email contact, are saved in a database to be reviewed by NHD or WBD state stewards, or USGS staff, for validation. State stewards or USGS staff may contact the data volunteer via the recorded email address if further clarification is needed for a proposed change. Validated markups go in a queue of edits to be incorporated into the NHD or WBD. The edits are made by NHD or WBD state stewards or USGS editors using established editing tools. No edits to the hydrography datasets take place within the Markup Application.

Title of Collection: Markup Application.

OMB Control Number: 1028-new.

Form Number: None.

Type of Review: New.

Respondents/Affected Public: General Public.

Total Estimated Number of Annual Respondents: 113.

Total Estimated Number of Annual Responses: 1821.

Estimated Completion Time per Response: 3 minutes.

Total Estimated Number of Annual Burden Hours: 91 hours.

Respondent's Obligation: Voluntary.

Frequency of Collection: Occasional.

Total Estimated Annual Nonhour Burden Cost: None.

An agency may not conduct or sponsor and a person is not required to respond to a collection of information unless it displays a currently valid OMB control number.

The authority for this action is the Paperwork Reduction Act of 1995 (44 U.S.C. 3501 et seq.).

Kari Craun,
Director, National Geospatial Technical Operations Center, U.S. Geological Survey.

[FR Doc. 2019-14002 Filed 6-28-19; 8:45 am]

BILLING CODE 4338-11-P